DEPARTMENT OF JUSTICE

Notice of Lodging Proposed Consent Decree

In accordance with Departmental Policy, 28 CFR 50.7, notice is hereby given that a proposed Consent Decree in United States v. George Gradel Co., Inc., et al., Civil Action No. 3:20-cv-00373, was lodged with the United States District Court for the Northern District of Ohio, Western Division, on February 19, 2020.

This proposed Consent Decree concerns a complaint filed by the United States against George Gradel Co., Inc., and First Energy Nuclear Operating Co., pursuant to Sections 301(a), 309(b), and 309(d) of the Clean Water Act, 33 U.S.C. 1311(a), 1319(b), and 1319(d), to obtain injunctive relief from and impose civil penalties against the Defendants for violating the Clean Water Act by discharging pollutants without a permit into waters of the United States. The proposed Consent Decree resolves these allegations by requiring the Defendants to perform mitigation and to pay a civil penalty.

The Department of Justice will accept written comments relating to this proposed Consent Decree for thirty (30) days from the date of publication of this Notice. Please address comments to Phillip R. Dupré, United States Department of Justice, Environment and Natural Resources Division, Environmental Defense Section, Post Office Box 7611, Washington, DC 20044, and refer to United States v. George Gradel Co., Inc., et al., DJ No. 90-5-1-1-20652.

The proposed Consent Decree may be examined at the Clerk's Office, United States District Court for the Northern District of Ohio, 1716 Spielbusch Avenue, Toledo, OH 43604. In addition, the proposed Consent Decree may be examined electronically at http://www.justice.gov/enrd/consent-decrees.

Cherie Rogers,
Assistant Section Chief, Environmental Defense Section, Environment and Natural Resources Division.

[FR Doc. 2020-04079 Filed 2-27-20; 8:45 am]

BILLING CODE 4410-CW-P